DEPARTMENT OF LABOR

Employment and Training Administration

[TA-W-65,885]

Morgan AM & T, Coudersport, PA; Notice of Termination of Investigation

Pursuant to Section 221 of the Trade Act of 1974, as amended, an investigation was initiated on May 5, 2009 in response to a petition filed by the International Union of Electronic and Communication Workers of America, Local 88612 on behalf of workers at Morgan AM & T, Coudersport, Pennsylvania.

The petitioner has requested that the petition be withdrawn. Consequently, the investigation has been terminated.

Signed at Washington, DC, this 14th day of May 2009.
Linda G. Poole,
Certifying Officer, Division of Trade Adjustment Assistance.

[FR Doc. E9-13920 Filed 6-12-09; 8:45 am]

BILLING CODE 4510-FN-P